NUCLEAR REGULATORY COMMISSION

[NRC-2012-0002]

Sunshine Federal Register Notice

AGENCY HOLDING THE MEETINGS: Nuclear Regulatory Commission.

DATE: Week of March 12, 2012.

PLACE: Commissioners' Conference Room, 11555 Rockville Pike, Rockville, Maryland.

STATUS: Public and Closed.

Additional Items To Be Considered

Week of March 12, 2012

Friday, March 16, 2012

3:30 p.m. Affirmation Session (Public Meeting) (Tentative)

a. Final Rule: Physical Protection of Byproduct Material (RIN 3150-AI12) (Tentative).

b. Luminant Generation Company LLC (Comanche Peak Nuclear Power Plant, Units 3 and 4); Energy Northwest (Columbia Generating Station); Southern Nuclear Operating Co. (Vogtle Electric Generating Plant, Units 3 and 4); DukeEnergy Carolinas, LLC (William States Lee III Nuclear Station, Units 1 and 2), Petitioner's Petition for Review of LBP-11-27 (November 2, 2011) (Tentative).

* * * * *

* The schedule for Commission meetings is subject to change on short notice. To verify the status of meetings, call (recording)—(301) 415-1292. Contact person for more information: Rochelle Bavol, (301) 415-1651.

* * * * *

The NRC Commission Meeting Schedule can be found on the Internet at: www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by email at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an email to darlene.wright@nrc.gov.

Dated: March 9, 2012.
Kenneth Hart,
Technical Coordinator, Office of the Secretary.

[FR Doc. 2012-6260 Filed 3-12-12; 11:15 am]

BILLING CODE 7590-01-P